DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: The National Health Service Corps Loan Repayment Program (OMB No. 0915-0127)—Extension

The National Health Service Corps (NHSC) Loan Repayment Program (LRP) was established to assure an adequate supply of trained primary care health care professionals to provide services in the neediest Health Professional Shortage Areas (HPSAs) of the United States. Under this program, the Department of Health and Human Services agrees to repay the educational loans of the primary care health professionals. In return, the health professionals agree to serve for a specified period of time in a federally-designated HPSA approved by the Secretary for LRP participants.

The NHSC LRP forms provide information that is needed for selecting participants and making determinations regarding repayment of qualifying loans for education. The LRP forms include the following: The NHSC LRP Application; the Loan Information and Verification form; the Community Site Information form; the Applicant Checklist; the Payment Information form; and the Authorization to Release Information form.

The estimated annual burden is as follows:

Type of form | Number of respondents | Responses per respondent | Total number of responses | Hours per response | Total burden hours
NHSC LRP Application | 1920 | 1 | 1920 | .5 | 960
Community Site Information form | 1920 | 1 | 1920 | .25 | 480
Loan Information and Verification form | 1920 | 3 | 5760 | .25 | 1440
Authorization to Release Information | 1920 | 1 | 1920 | .1 | 192
Applicant Checklist | 1920 | 1 | 1920 | .2 | 384
Lenders | 80 | 1 | 80 | .25 | 20
Total | 2000 |  | 9680 | 1.55 | 3476

Written comments and recommendations concerning the proposed information collection should be sent within 30 days of this notice to the desk officer for HRSA, either by e-mail to OIRA_submission@omb.eop.gov or by fax to 202-395-6974. Please direct all correspondence to the “attention of the desk officer for HRSA.”

Dated: July 5, 2007.
Alexandra Huttinger,
Acting Director, Division of Policy Review and Coordination.

[FR Doc. E7-14525 Filed 7-26-07; 8:45 am]

BILLING CODE 4165-15-P